DEPARTMENT OF HEALTH AND HUMAN SERVICES

Indian Health Service

American Indians Into Psychology; Notice of Competitive Grant Applications for American Indians Into Psychology Program

ACTION: Correction.

SUMMARY: The Indian Health Service published a document in the Federal Register on March 28, 2007. The document contained three errors. For further information Contact: Martha Redhouse, Grants Management Branch, Indian Health Service, Reyes Building, 801 Thompson Avenue, Rockville, MD 20852, Telephone (301) 443-5204. (This is not a toll-free number).

Correction

In the Federal Register of March 28, 2007, in FR Doc. 07-1498, on page 14584, in the first column amend the Application Deadline to read May 25, 2007, the Application Review to read June 14, 2007, and the Application Notification to read June 27, 2007. In the second column, III. Eligibility Information, #1—Eligible Applicants should include the statement, “Only colleges or universities that offer a Ph.D in clinical programs accredited by the American Psychological Association will be eligible to apply for a grant. In the third column, delete the following sentence: “Documentation must be submitted from every Tribe involved in the grant program.” On page 14586, Project Budget, #5 subsection (d) should read: “Projects requiring a second and third year must include a program narrative and categorical budget and justification for each additional year of funding requested (this is not considered part of the 7-page narrative).

Dated: April 16, 2007.
Robert G. McSwain,
Deputy Director, Indian Health Service.

[FR Doc. 07-2013 Filed 4-23-07; 8:45 am]

BILLING CODE 4165-16-M